ENVIRONMENTAL PROTECTION AGENCY

[ER-FRL-6624-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated May 18, 2001 (66 FR 27647).

Draft EISs

ERP No. D-AFS-L65388-WA Rating EC2, Crystal Mountain Master Development Plan, To Provide Winter and Summer Recreational Use, Special-Use-Permit, Mt. Baker-Snoqualmie National Forest, Silver Creek Watershed, Pierce County, WA.

Summary: EPA expressed environmental concerns related to the purpose and need statement, the No Action Alternative, impacts to water quality and quantity, improved inter-governmental coordination, and more fully disclosed indirect and cumulative effects.

ERP No. D-CGD-A59014-00 Rating EC2, Programmatic EIS—Integrated Deepwater System Project, Surface, Air, Logistics Communication and Sensor Systems, Aging Nation-Wide System Replacement

Summary: EPA expressed concerns regarding potential impacts to the marine environment and air quality, and requested clarification of the methodology used to analyze cumulative impacts and potential impacts from hazardous wastes.

ERP No. D-SFW-A65170-00 Rating LO, Light Goose Management Plan, Implementation, Reducing and Stabilizing Specific Populations “Light Geese” in North America.

Summary: EPA did not identify any environmental concerns with the Service's preferred alternative of modifying harvest regulations and refuge management in order to reduce high population levels of light geese. EPA recommended that following selection of a management approach, the Service should carefully monitor its implementation and remain open to exploring other options as necessary and appropriate.

Final EISs

ERP No. F-AFS-J65344-MT Burned Area Recovery, Proposal to Reduce Fuels, Improve Watershed Conditions and Reforest Burned Lands, Sula, Darby, West Fork and Stevensville Ranger Districts, Bitterroot National Forest, Ravalli County, MT.

Summary: While the development of a new preferred alternative, Alternative F, was responsive to EPA's environmental concerns about sediment production and increased water yield from fuels reduction treatments, EPA still has concerns about sediment production from ground based logging systems.

Dated: December 11, 2001.
Joseph C. Montgomery,
Director, NEPA Compliance Division, Office of Federal Activities.

[FR Doc. 01-30933 Filed 12-13-01; 8:45 am]

BILLING CODE 6560-50-U